DEPARTMENT OF LABOR

Employment and Training Administration

[TA-W-60,429]

Xyron Inc., Garden Grove, CA; Notice of Termination of Investigation

Pursuant to Section 221 of the Trade Act of 1974, as amended, an investigation was initiated on November 14, 2006, in response to a petition filed on behalf of workers of Xyron Inc., Garden Grove, California. The workers produced adhesive coated liners.

This petitioning group of workers is covered by an earlier petition (TA-W-60,355) filed on November 2, 2006, that is the subject of an ongoing investigation for which a determination has not yet been issued. Accordingly, further investigation in this case would serve no purpose and this investigation has been terminated.

Dated: November 29, 2006.
Linda G. Poole,
Certifying Officer, Division of Trade Adjustment Assistance.

[FR Doc. E6-20837 Filed 12-7-06; 8:45 am]

BILLING CODE 4510-30-P